FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed new information collections. In accordance with the Paperwork Reduction Act of 1995 (44 U.S.C. 3506(c)(2)(A)), this notice seeks comments concerning a national review of local mitigation planning.

SUPPLEMENTARY INFORMATION: There are three FEMA programs that provide either direct funding or insurance incentives in order to promote mitigation planning at the local level. They are the Flood Mitigation Assistance Program (FMA), the Hazard Mitigation Grant Program (HMGP), and the National Flood Insurance Program (NFIP) Community Rating System. Project Impact funds may also be used for local mitigation planning but will be excluded from this evaluation since the program has a separate evaluation instrument with the University of Delaware.

Anecdotal information regarding the value of hazard mitigation planning in producing viable and effective mitigation actions exists, but this has never been studied in a systematic way. The purpose of this review will be to (1) assess the impact that FEMA's local Mitigation planning initiatives have had on local planning; (2) identify communities with successful mitigation plans and (3) document “best practices” that led to the formulation of successful plans. For example, there is the assumption that the FMA planning requirement promotes successful projects. However, there is a need to objectively evaluate whether this is a true statement, and if so, why. As a result, this objective review will give us a better opportunity to understand planning effectiveness and “best practices”.

Collection of Information

Title. Review of Local Mitigation Planning Initiatives and Practices.

Type of Information Collection. New.

OMB Number: NEW.

Abstract. The purpose of this information collection, in the form of a survey, is to support the FEMA Mitigation Directorate and the Office of the Inspector General in conducting a national review of local mitigation planning. The goal of the survey is to determine the extent to which communities are formulating, adopting and adhering to local mitigation plans, and to review the overall quality of these plans. Additional goals are to document the “best practices” and identify characteristics of successful planning programs at the local level.

Affected Public: Local or Tribal Governments.

Estimated Total Annual Burden Hours: 563.

Year of FEMA survey | No. of respondent (A) ¹ | Annual frequency of survey (B) | No. of questions/average minutes to answer | Burden hours per respondents (C) ² | Annual burden hours (A x B x C)
2001 | 125 | 1 | 36/2.5 minutes | 1.50 | 187.50
2002 | 125 | 1 | 36/2.5 minutes | 1.50 | 187.50
2003 | 125 | 1 | 36/2.5 minutes | 1.50 | 187.50
Total | 375 | 1 |  | ³ 1.50 | 562.50
¹ The audit sampling plan calls for 90 communities to be contacted. However, we anticipate that we may need to interview more than one official per community because a single official may not know the answer to all survey questions. We assumed that less than half of the 90 communities would require a second interview. Even if all 90 communities require a second interview, neither respondent would answer all of the survey questions.
² Burden hours were calculated by: 1. Multiplying the number of questions by the average number of minutes required to answer each question (i.e., 36 questions × 2.5 minutes = 90 minutes) and 2. Dividing the product of 1) by 60 minutes (i.e., 90 minutes/60 minutes = 1.50 hours).
³ The respondents are State or local community officials that hold positions of authority within their organizations. Based on their positions as experts in their field, they are generally expected to offer their professional opinions about Federal programs and initiatives. We anticipate that the interview may take longer than a typical survey because we are not offering the respondent a choice of answers. Our respondents will need time to formulate an answer and explain it.

Estimated Annual Cost to Respondents: $3,750. We estimate that it will take approximately $30.00 per respondent per year to complete the survey.

Comments

Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, FEMA Information Collections Officer, Federal Emergency Management Agency, 500 C Street, SW, Room 316, Washington, DC 20472.

FOR FURTHER INFORMATION CONTACT: Ms. Rosemary Krueger, Program Analyst, Federal Emergency Management Agency, Mitigation Directorate, Program Support Division, Planning Branch, (202) 646-4189 for additional information. For copies of the proposed collection of information contact Ms. Anderson at (202) 646-2625, by facsimile (202) 645-3347, or by e-mail at muriel.anderson@fema.gov.

Dated: March 12, 2001.
Reginald Trujillo,
Director, Program Services Division, Operations Support Directorate.

[FR Doc. 01-6674 Filed 3-16-01; 8:45 am]

BILLING CODE 6718-01-P